DEPARTMENT OF COMMERCE

International Trade Administration

[C-552-813]

Certain Steel Wire Garment Hangers From the Socialist Republic of Vietnam: Rescission of Countervailing Duty Administrative Review; 2012-2013

AGENCY: Enforcement and Compliance, International Trade Administration, Department of Commerce.

DATES: Effective Date: June 2, 2014.

FOR FURTHER INFORMATION CONTACT: Robert Copyak, AD/CVD Operations, Office III, Enforcement and Compliance, International Trade Administration, U.S. Department of Commerce, 14th Street and Constitution Avenue NW., Washington, DC 20230; telephone: (202) 482-2209.

SUPPLEMENTARY INFORMATION:

Background

On February 3, 2014, the Department of Commerce (the Department) published a notice of opportunity to request an administrative review of the countervailing duty order on certain steel wire garment hangers from the Socialist Republic of Vietnam (Vietnam).¹

¹ See Antidumping or Countervailing Duty Order, Finding, or Suspended Investigation; Opportunity to Request Administrative Review, 79 FR 6159 (February 3, 2014).

Pursuant to a request from M&B Metal Products Company, Inc., Innovative Fabrication LLC/Indy Hanger, and US Hanger Company, LLC (collectively, Petitioners), the Department published in the Federal Register the notice of initiation of countervailing duty administrative review with respect to 49 companies for the period June 4, 2012, through December 31, 2013.² Petitioners were the only interested parties to submit a request for this administrative review.

² See Initiation of Antidumping and Countervailing Duty Administrative Reviews and Request for Revocation in Part, 79 FR 18262 (April 1, 2014) (Initiation).

On May 20, 2014, Petitioners withdrew their request for review with respect to all 49 companies in a timely manner.³

³ See Petitioners' May 20, 2014, submission.

Rescission of the 2012-2013 Administrative Review

Pursuant to 19 CFR 351.213(d)(1), the Secretary will rescind an administrative review, in whole or in part, if the parties that requested a review withdraw the request within 90 days of the date of publication of the notice of initiation of the requested review. The Department published the Initiation on April 1 2014.⁴ Petitioners' withdrawal of their review request was submitted within the 90-day period following the publication of the Initiation and, thus, is timely. Therefore, in accordance with 19 CFR 351.213(d)(1), we are rescinding this review of the countervailing duty order on certain steel wire garment hangers from Vietnam in its entirety.

⁴ See Initiation.

Assessment

The Department will instruct U.S. Customs and Border Protection (CBP) to assess countervailing duties on all appropriate entries. For the companies for which this review is rescinded countervailing duties shall be assessed at rates equal to the cash deposit of estimated countervailing duties required at the time of entry, or withdrawal from warehouse, for consumption, during the period June 4, 2012, through December 31, 2013, in accordance with 19 CFR 351.212(c)(1)(i).

The Department intends to issue appropriate assessment instructions directly to CBP 15 days after publication of this notice.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: May 28, 2014.
Christian Marsh,
Deputy Assistant Secretary for Antidumping and Countervailing Duty Operations.

[FR Doc. 2014-12725 Filed 5-30-14; 8:45 am]

BILLING CODE 3510-DS-P